ENVIRONMENTAL PROTECTION AGENCY

[SWH-FRL-7044-1]

Recovered Materials Advisory Notice IV

AGENCY: Environmental Protection Agency.

ACTION: Notice of Draft Document for Review.

SUMMARY: The Environmental Protection Agency (EPA or the Agency) today is providing notice of the issuance of a draft Recovered Materials Advisory Notice (RMAN IV). The RMAN provides guidance to procuring agencies for purchasing certain items containing recovered materials. Under section 6002 of the Resource Conservation and Recovery Act of 1976, EPA designates items that are or can be made with recovered materials and provides recommendations for the procurement of these items. Elsewhere in today's Federal Register, EPA is proposing to designate 11 items under RCRA Section 6002. EPA is proposing to designate the following: bike racks, blasting grit, cement and concrete containing cenospheres, cement and concrete containing silica fume, modular threshold ramps, nonpressure pipe, nylon carpet and nylon carpet backing, office furniture, rebuilt vehicular parts, roofing materials, and tires. Today's draft RMAN IV contains recommended recovered materials content levels for these items.

Today's draft RMAN IV also includes revisions to EPA's previous recommendations for polyester carpet issued in RMAN I (60 FR 21386, May 1, 1995). Previously, EPA designated polyester carpet for use in low- and medium-wear applications and referenced those applications in the RMAN. Since the issuance of EPA's designation and recommendations for polyester carpet, the Carpet and Rug Institute (CRI) has issued new carpet use classifications. Under CRI's new classifications, certain applications that EPA has considered to be low- and medium-wear are now classified as moderate- and heavy-wear applications. Therefore, today's draft RMAN revises the recommendations for polyester carpet to recommend its use in certain moderate- and heavy-wear applications, such as those found in single family housing units, private offices, and similar applications. Today's draft RMAN IV also recommends that when procuring agencies purchase new carpet, they also consider making arrangements to have their old carpet collected and recycled or otherwise reused to make new carpeting.

Today's draft RMAN IV proposes revisions to EPA's previous recommendations for railroad grade crossing surfaces by adding recommended recovered materials content levels for railroad grade crossing surfaces containing recovered wood and plastic. In addition, today's draft RMAN proposes to revise EPA's previous recommendations for consolidated and reprocessed latex paint issued in RMAN II (62 FR 60975, November 13, 1997). In RMAN II, EPA recommended that procuring agencies refer to federal specification TT-P-2846 when purchasing recycled paint. (See Section C-7-Latex Paint.) EPA has recently learned that the General Services Administration (GSA) has cancelled this specification and will replace it with commercial item description (CID) A-A-3185. A copy of this CID will be placed in the RCRA public docket for today's notice when it becomes available. In the final RMAN IV, EPA intends to revise Section C-7 of the RMAN to delete reference to federal specification TT-P-2846 and replace it with reference to CID A-A-3185.

DATES: EPA will accept public comments on the recommendations contained in the draft RMAN IV until October 29, 2001.

ADDRESSES: To comment on this notice, please send an original and two copies of comments to: RCRA Information Center (5305W), U.S. Environmental Protection Agency, Ariel Rios Building, 1200 Pennsylvania Avenue, NW., Washington, DC 20460. Please place the docket number F-2001-CP4P-FFFFF on your comments.

If any information is confidential, it should be identified as such. An original and two copies of Confidential Business Information (CBI) must be submitted under separate cover to: Document Control Officer (5305), Office of Solid Waste, U.S. Environmental Protection Agency, Ariel Rios Building, 1200 Pennsylvania Avenue, NW.,Washington, DC 20460.

Documents related to today's notice are available for viewing at the RCRA Information Center (RIC), located at: U.S. Environmental Protection Agency, 1235 Jefferson Davis Highway, Ground Floor, Crystal Gateway One, Arlington, VA 22202. The RIC is open from 9 a.m. to 4 p.m. Monday through Friday, except for federal holidays. The public must make an appointment to review docket materials. Call (703) 603-9230 for appointments. Copies cost $.15 per page.

FOR FURTHER INFORMATION CONTACT: For general information contact the RCRA Call Center at (800) 424-9346 or TDD (800) 553-7672 (hearing impaired). In the Washington, DC metropolitan area, call (703) 412-9810 or TDD (703) 412-3323. For technical information on individual item recommendations, contact Terry Grist at (703) 308-7257.

SUPPLEMENTARY INFORMATION:

I. What Is the Statutory Authority for This Proposed Action?

The draft Recovered Materials Advisory Notice (RMAN IV) is issued under the authority of sections 2002(a) and 6002 of the Solid Waste Disposal Act, as amended by the Resource Conservation and Recovery Act of 1976 (RCRA), as amended; and 42 U.S.C. 6912(a) and 2962. EPA is also issuing RMAN IV to comply with section 502 of Executive Order 13101, “Greening the Government Through Waste Prevention, Recycling, and Federal Acquisition (63 FR 49643, September 14, 1998).

II. What Is the Background for this Proposed Action?

Section 6002 of RCRA establishes a federal buy-recycled program. RCRA section 6002(e) requires EPA to (1) designate items that are or can be made with recovered materials and (2) prepare guidelines to assist procuring agencies in complying with affirmative procurement requirements set forth in paragraphs (c), (d), and (i) of section 6002. Once EPA has designated items, section 6002 requires that any procuring agency using appropriated federal funds to procure those items must purchase them composed of the highest percentage of recovered materials practicable. For the purposes of RCRA section 6002, procuring agencies include the following: (1) any federal agency; (2) any state or local agencies using appropriated federal funds for a procurement, or (3) any contractors with these agencies (with respect to work performed under the contract). The requirements of RCRA section 6002 apply to such procuring agencies only when procuring designated items where the price of the item exceeds $10,000 or the quantity of the item purchased in the previous year exceeded $10,000.

Executive Order 13101 directs EPA to designate items in a Comprehensive Procurement Guideline (CPG) and publish guidance that contains EPA's recommended recovered content levels for the designated items in the RMANs. The Executive Order further directs EPA to update the CPG every 2 years and the RMANs periodically to reflect changes in market conditions. EPA codifies the CPG designations in the Code of Federal Regulations (CFR), but because the recommendations are guidance, the RMANs are not codified in the CFR. This process enables EPA to revise its recommendations in response to changes in a product's availability or recovered materials content so as to provide timely assistance to procuring agencies in fulfilling their RCRA section 6002 responsibilities.

The original CPG (CPG I) was published on May 1, 1995 (60 FR 21370). It established eight product categories, designated 19 new items, and consolidated five earlier item designations. At the same time, EPA published the first RMAN (RMAN I) (60 FR 21386). On November 13, 1997, EPA published CPG II (62 FR 60962), which designated an additional 12 items. At the same time, EPA published an RMAN II (62 FR 60975). Paper Products RMANs were issued on May 29, 1996 (61 FR 26985) and June 8, 1998 (63 FR 31214). On January 19, 2000, EPA published CPG III (65 FR 3070), which designated an additional 18 items. At the same time, EPA published an RMAN III (65 FR 3082).

Today, in CPG IV, EPA is proposing to designate the following 11 additional items: bike racks, blasting grit, cement and concrete containing cenospheres, cement and concrete containing silica fume, modular threshold ramps, nonpressure pipe, nylon carpet and nylon carpet backing, office furniture, rebuilt vehicular parts, roofing materials, and tires. Once finalized, today's RMAN will serve as companion guidance to the previous RMANs.

EPA, once again, wants to stress that the recommendations in RMAN IV are just that—recommendations and guidance to procuring agencies in fulfilling their obligations under RCRA section 6002. The designation of an item as one that is or can be produced with recovered materials and the inclusion of recommended content levels for an item in the RMAN does not compel the procurement of an item when the item is not suitable for its intended purpose. RCRA section 6002 is explicit in this regard when it authorizes a procuring agency not to procure a designated item which “fails to meet the performance standards set forth in the applicable specification or fails to meet the reasonable performance standards of the procuring agencies.” Section 6002(1)(B), 42 U.S.C. 6962(c)(B).

Thus, for example, in the proposal section of today's Federal Register, EPA has proposed to designate bike racks as items that are or can be made with recovered materials. The Agency's research shows that these items can be made with steel or plastic containing recovered materials. If EPA adopts the proposed designation and recommendations for bike racks, however, the mere fact that they are available containing recovered materials does not require the use of steel or plastic bike racks in every circumstance. The choice of appropriate materials may depend on state or local codes. The effect of designation (and RCRA section 6002) is simply to require the purchase of items containing recovered materials when consistent with the purpose for which the item is to be used. Procuring agencies remain free to procure designated items made from other materials where the design specifications call for other materials. However, agencies must affirmatively determine whether items containing recovered materials meet their performance needs.

A. What Is the Methodology for Recommending Recovered Materials Content Levels?

In providing guidance in the RMANs, the Executive Order directs EPA to present “the range of recovered materials content levels within which the designated recycled items are currently available.” Based on the information available to the Agency, EPA recommends ranges that encourage manufacturers to incorporate the maximum amount of recovered materials into their products without compromising competition or product performance and availability. EPA recommends that procuring agencies use these ranges, in conjunction with their own research, to establish minimum content standards for use in purchasing the designated items. EPA recommends ranges rather than minimum standards for several reasons:

First, the Executive Order directs EPA to develop ranges, not minimum content standards or specific recovered materials levels.

Second, EPA has only limited information on recovered materials content levels for the new items proposed for designation. It would not be appropriate to establish minimum content standards without more detailed information because the standards may be treated as maximum targets by manufacturers and may stifle innovative approaches for increasing recovered material use. EPA's expectation is that the use of ranges will encourage manufacturers producing at the low end of the recovered materials range to seek ways of increasing their recovered materials usage. Minimum content standards are less likely to encourage such innovation.

Third, many items are purchased locally rather than centrally. As a result, the recovered materials content of the items are likely to vary from region to region depending on local cost and availability of recovered materials. Minimum content standards are unlikely to be effective given the regional variance in recovered materials content because minimum content levels that are appropriate for one region, may be excessively high or low for other regions. A recovered materials content range gives regional procuring agencies the flexibility to establish their own recovered materials content standards and to make them as high as possible, consistent with the statute, given local product availability and market conditions.

EPA reviewed publicly-available information, information obtained from product manufacturers, and information provided by other government agencies regarding the percentages of recovered materials available in the items proposed for designation in CPG IV. Based on this information, EPA established ranges of recovered materials content for the proposed designated items. In some instances, EPA recommends a specific content level (e.g., 100 percent recovered materials), rather than a range, because the item is universally available at that recommended level, the item contains 100 percent recovered materials, or that level is the maximum content currently used in that item.

In establishing the ranges, EPA's objective was to ensure the availability of the item, while challenging manufacturers to increase their use of recovered materials. By recommending ranges, EPA believes that sufficient information will be provided to enable procuring agencies to set appropriate procurement specifications when purchasing the newly designated items.

It is EPA's intention to provide procuring agencies with the best and most current information available to assist them in fulfilling their statutory obligations under RCRA section 6002. To do this, EPA will monitor the progress made by procuring agencies in purchasing designated items with the highest practical recovered materials content levels and will adjust the recommended content ranges as appropriate. EPA anticipates that the recommended ranges will narrow over time as other items become more available, although for technical reasons, many may never be available with 100 percent recovered materials content levels.

Under RCRA section 6002(i), it is each procuring agency's responsibility to establish minimum content standards, while EPA provides recommendations regarding the levels of recovered materials in the designated items. To make it clear that EPA does not establish minimum content standards for other agencies, EPA refers to its recommendations as “recovered materials content levels,” consistent with RCRA section 6002(e) and the Executive Order.

More information on EPA's methodology for recommending recovered materials content levels for designated items is contained in “Background Document for Proposed CPG IV and Draft RMAN IV,” located in the RCRA public docket for this notice and on EPA's CPG Web site at www.epa.gov/cpg.

B. What Are the Definitions of Terms Used in This Proposed Action?

Today's draft RMAN IV contains recommendations on the recovered materials content levels and postconsumer materials content levels at which the designated items are generally available. For several items being proposed for designation, this RMAN recommends two-part content levels—a postconsumer recovered materials content component and a total recovered materials component. In these instances, EPA found that both types of materials were being used to manufacture a product. Recommending only postconsumer content levels would fail to acknowledge the contribution to solid waste management made when manufacturers use, as feedstock, the byproducts of other manufacturing processes that would otherwise be destined for disposal as solid waste. The terms “recovered materials” and “postconsumer materials” are defined in 40 CFR § 247.3. These definitions are repeated here as a reference for the convenience of the reader. The Agency is not proposing to change these definitions and will not consider any comments submitted on these terms.

Postconsumer materials means a material or finished product that has served its intended end use and has been diverted or recovered from waste destined for disposal, having completed its life as a consumer item. Postconsumer material is part of the broader category of recovered materials.

Recovered materials means waste materials and byproducts which have been recovered or diverted from solid waste, but such term does not include those materials and byproducts generated from, and commonly used within an original manufacturing process.

Definitions for the 11 new items covered in this RMAN IV are included in proposed CPG IV published in the proposed rule section of today's Federal Register.

C. What Comments Is EPA Requesting?

EPA requests comments, including additional supporting documentation and information, on the types of recovered materials identified in the item recommendations, the recommended recovered and postconsumer materials content levels, and other recommendations, including specifications, for purchasing the designated items containing recovered materials. EPA requests specific comments and information on the following issues:

(1) Recently, as explained in the preamble to proposed CPG IV, the Carpet and Rug Institute (CRI) issued new carpet-use classifications that provide a listing of the types of end-use applications recommended for carpet and reclassifies the applications into three new categories: moderate-, heavy-, and severe-wear applications. Most of the applications specified by EPA in the initial polyester carpet designation in CPG I referred to private homes that, under the new CRI classifications, would be included in the category of “single family housing.” CRI's classifications include both moderate- and heavy-use applications under the single family housing category. Therefore, EPA, as explained in the CPG IV, is proposing to revise the polyester carpet designation to reference the new CRI classifications and specify that the designation be limited to moderate- and heavy-wear applications such as those found in single-family housing units, private offices, and similar applications. EPA is requesting comments on this proposed revision to the designation for polyester carpet. Today's RMAN revises EPA's previous recommendations for polyester carpet and adds recommendations for nylon carpet and nylon carpet backing. The RMAN also recommends that procuring agencies make provisions to recycle old carpet that is being replaced.

(2) Whether any specifications exist or are appropriate for passenger tires containing recovered rubber, wood or plastic railroad grade crossing surfaces, office furniture, bike racks, or blasting grit.

(3) EPA is aware that modular threshold ramps can be made with recovered copper. However, it does not have any information relating to the amount of recovered copper used in these ramps and therefore, has not included ramps containing recovered copper in today's proposed designation. EPA requests information on the use of recovered copper in the manufacture of modular threshold ramps.

(4) EPA is aware that nonpressure pipe can be made from aluminum that can contain recovered materials, but does not have any information regarding the recovered content percentages. EPA requests information on the amount of recovered aluminum that is being used in aluminum pipe.

(5) EPA's research indicates that wood shakes and shingles, as well as asphalt/plastic composite roofing materials can be made from recovered materials, but it was unable to identify recovered content percentages in these products. The Agency requests comments or information on the use of recovered materials in wood, fiberglass, and asphalt/plastic composite roofing materials.

III. Supporting Information and Accessing Internet

The index of supporting materials for today's draft RMAN IV is available in the RCRA Information Center (RIC) and on EPA's CPG Web site at <www.epa.gov/cpg>. The address and telephone number of the RIC are provided in ADDRESSES above. The index and the following supporting materials are available on the Internet:

“Background Document for Proposed CPG IV and Draft RMAN IV,” U.S. EPA, Office of Solid Waste and Emergency Response, EPA530-R-01-006, April 2001.

Copies of the following supporting materials are available for viewing at the RIC only:

“Recovered Materials Product Research for the Comprehensive Procurement Guideline IV,” Draft Report, August 2000.

To access information electronically, go to EPA's CPG Web site at www.epa.gov/cpg.

Dated: August 21, 2001.
Christine Todd Whitman,
Administrator.

Recovered Materials Advisory Notice IV

The following represents EPA's recommendations to procuring agencies for purchasing the items designated by EPA in the Comprehensive Procurement Guideline IV (CPG IV), in compliance with section 6002 of the Resource Conservation and Recovery Act (RCRA) and Executive Order 13101. These recommendations are intended to be used in conjunction with RMAN I (60 FR 21386, May 1, 1995), the Paper Products RMAN (61 FR 26985, May 29, 1996), the Paper Products RMAN II (63 FR 31214, June 8, 1998), RMAN II (62 FR 60975, November 13, 1997), and RMAN III (65 FR 3082, January 19, 2000). Refer to the previous RMANs or the Code of Federal Regulations at 40 CFR Part 247 for definitions, general recommendations for affirmative procurement programs, and recommendations for previously designated items.

Contents

I. General Recommendations

II. Specific Recommendations for Procurement of Designated Items

Part B. Vehicular Products

Section B-2. (Revised) Add—Tires Containing Recovered Rubber.

Section B-4. Rebuilt Vehicular Parts.

Part C. Construction Products

Section C-3. (Revised) Add—Cement and Concrete Containing Cenospheres and Silica Fume from Silicon or Ferrosilicon Metal Production.

Section C-4. (Revised) Add—Nylon Carpet Facing and Nylon Carpet Backing Containing Recovered Materials and Revised Recommendations for Polyester Carpet.

Section C-10. (Revised) Add—Railroad Grade Crossing Surfaces Made From Recovered Wood and Plastic.

Section C-11. Modular Threshold Ramps Containing Recovered Steel, Aluminum, or Rubber.

Section C-12. Nonpressure Pipe Containing Recovered Steel, Plastic, or Concrete.

Section C-14. Roofing Materials Containing Recovered Steel, Aluminum, Fiber, Rubber, Plastic or Plastic Composites, or Cement.

Part G. Nonpaper Office Products

Section G-9. Office Furniture Containing Recovered Steel, Aluminum, Wood, or Plastic.

Part H. Miscellaneous Products

Section H-8. Bike Racks Containing Recovered Steel or Plastic.

Section H-9. Blasting Grit Containing Recovered Steel, Coal and Metal Slag, Glass, Plastic, or Walnut Shells.

I. General Recommendations

General recommendations for definitions, specifications, and affirmative procurement programs can be found in the May 1, 1995 RMAN (60 FR 21386).

II. Specific Recommendations for Procurement of Designated Items

Recommendations for purchasing previously-designated items can be found in RMAN I (May 1, 1995); RMAN II (November 13, 1997); RMAN III (January 19, 2000); and the Paper Products RMANs (May 29, 1996, and June 8, 1998).

Part B—Vehicular Products

Section B-2. (Revised) Add—Tires Containing Recovered Rubber

Note: EPA previously designated retread tires in CPG I and recommended that procuring agencies procure retread tires or retreading services in RMAN I (60 FR 21386, May 1, 1995). EPA has amended the original designation to include tires containing recovered rubber.

Preference Program for Tires Containing Recovered Rubber: EPA recommends that, based on the recovered materials content levels stated below, procuring agencies revise their preference program to establish minimum content standards for use in purchasing passenger tires containing recovered rubber.

• EPA recommends that procuring agencies purchase passenger tires containing 5-10% postconsumer recovered rubber.

Note: EPA's recommendations incorporate the recommended recovered materials content ranges in Sec. 403(b) of Executive Order 13149, “Greening the Government Through Federal Fleet and Transportation Efficiency” (April 21, 2000). EPA recognizes that tires containing recovered rubber at levels toward the high end of this range may not be readily available, but encourages procuring agencies to purchase tires with the highest level of recovered rubber possible.

Specifications: EPA did not identify any specifications that would preclude the production or procurement of passenger tires with recovered content.

Section B-4. Rebuilt Vehicular Parts

Note: Based on EPA's research, rebuilt vehicular parts generally contain between 60 and 95% postconsumer material. However, this level of detail might not be readily available from distributors to procurement officials. Therefore, EPA is not recommending a range of recovered content.

Preference Program: EPA recommends that procuring agencies whose vehicles (passenger vehicles as well as medium- and heavy-duty equipment, including trucks, cranes, off-road vehicles, and military vehicles) are serviced by a motor pool or vehicle maintenance facility establish a program for vehicular parts rebuilding and reuse consisting of either recovering a used vehicular part and rebuilding it, replacing it with a rebuilt part, or contracting to have the part replaced with a rebuilt part.

Specifications: To be labeled “rebuilt” or “remanufactured,” a part must be processed in accordance with the FTC's “Guides for the Rebuilt, Reconditioned and Other Used Automotive Parts Industry,” 16 CFR Part 20. Rebuilders must test each part for compliance with FTC specifications and correct defects as necessary. A copy of the FTC guides have been placed in the RCRA docket for this RMAN.

Part C—Construction Products

Section C-3. (Revised) Add—Cement and Concrete Containing Cenospheres and Silica Fume from Silicon or Ferrosilicon Metal Production

Note: EPA previously designated cement and concrete containing coal fly ash and ground granulated blast furnace slag (GGBF) in CPG I and recommended recovered material content ranges in RMAN I (60 FR 21386, May 1, 1995). EPA has amended the designation to add cenospheres and silica fume from silicon or ferrosilicon metal production as other recovered materials for use as cement and concrete additives.

Preference Program for Cement and Concrete Containing Cenospheres and Silica Fume from Silicon or Ferrosilicon Metal Production: EPA recommends that, based on the recovered materials content levels stated below, procuring agencies revise their preference program to establish minimum content standards for use in purchasing cement and concrete containing cenospheres and silica fume from silicon or ferrosilicon metal production.

• EPA recommends that procuring agencies revise their procurement programs for cement and concrete or for construction projects involving cement and concrete to allow use of cement and concrete containing 10-15% cenospheres (by weight), as appropriate. EPA recommends that procuring agencies specifically include provisions in all construction contracts to allow for the use, as optional or alternate materials, on cement or concrete that contains cenospheres, as appropriate.

• EPA recommends that procuring agencies revise their procurement programs for cement and concrete or for construction projects involving cement and concrete to allow use of cement and concrete containing 5-20% silica fume (by weight), as appropriate. EPA recommends that procuring agencies specifically include provisions in all construction contracts to allow for the use, as optional or alternate materials, on cement or concrete that contains silica fume, as appropriate.

Specifications: EPA recommends that procuring agencies refer to ASTM C-618, which covers concrete additives and enables procuring agencies to buy concrete containing cenospheres of a standard quality.

EPA recommends that procuring agencies refer to the following national specifications and guidelines, which enable procuring agencies to buy high-performance concrete containing silica fume of a standard quality, when purchasing cement and concrete with silica fume: ASTM C1240, AASHTO M840, and ACI 234R-96. ACI 234R-96 describes the properties of silica fume; how silica fume interacts with cement; the effects of silica fume on the properties of fresh and cured concrete; typical applications of silica fume concrete; recommendations on proportions, specifications, and handling of silica fume in the field. A copy of these specifications have been placed in the RCRA public docket for this RMAN.

Section C-4. (Revised) Add—Nylon Carpet Facing and Nylon Carpet Backing Containing Recovered Materials and Recommendations for Polyester Carpet

Note: On May 1, 1995, EPA issued a final designation for polyester carpet containing recovered materials in CPG I (60 FR 21370). EPA has amended the designation to revise the polyester carpet designation to reference the new Carpet and Rug Institute classifications and specify that the designation be limited to moderate- and heavy-wear applications such as those found in single-family housing units, private offices, and similar applications.

Today's RMAN revises EPA's previous recommendations for polyester carpet and adds recommendations for nylon carpet and nylon carpet backing. The RMAN also recommends that procuring agencies make provisions to recycle old carpet that is being replaced.

Preference Program: EPA recommends that, based on the recovered materials content levels shown in Table C-4 (Revised), procuring agencies establish minimum content standards for use in purchasing polyester carpet for moderate- and heavy-wear applications such as those found in single-family housing units, private offices, and similar applications and for nylon carpet with recovered material fiber facing and/or nylon carpet backing. For polyester carpet, this recommendation does not include polyester carpet for severe-wear or commercial-type applications.

For nylon carpet, the recommended recovered materials content levels would also include fiber facing that has been recycled or otherwise renewed through processes that remove, retexture, and recolor the carpeting. EPA also recommends that when procuring agencies purchase new carpeting, they make provisions to have their old carpeting collected, removed, and recycled or otherwise reused to make a new carpet product.

Table C-4 (Revised).—Recommendations for Polyester Carpet and Recommended Recovered Materials Content Levels for Nylon Carpet Facing and Nylon Carpet Backing
Product | Material | Postconsumer content (%) | Total recovered materials content (%)
Polyester carpet face fiber | PET | 25-100 | 25-100
Nylon carpet face fiber | Old carpets | 1-100 | 25-100
Nylon carpet backing | Vinyl | 35-70 | 100
Notes: EPA's recommendations do not preclude a procuring agency from purchasing carpet made from other materials such as acrylic or wool. They simply require that procuring agencies, when purchasing nylon carpet, purchase it with recovered materials in either the fiber facing or the backing, or both, when it meets applicable specifications and performance requirements and when purchasing polyester carpet, purchase it with recovered materials in the fiber facing when it meets applicable specifications and performance requirements.

The nylon carpet recommendations would also include “renewed” nylon carpet, which is cleaned, retextured, recolored, or otherwise reused to produce a new nylon carpet product.

Specifications: Procuring agencies should refer to the Carpet and Rug Institute's table entitled “Use Classification by End-Use Application” for a complete listing of CRI's recommended carpet applications. A copy of this table has been placed in the public docket for this RMAN.

While numerous carpet specifications exist, the members of the carpet industry do not utilize any universal standards. Specifications vary and are determined based on the particular factors of the installation. The project's designer, architect, general contractor, and/or facility manager typically decide the specifications. Some procuring agencies, such as the Department of the Army and the Department of Housing and Urban Development, have developed their own specifications for end-use carpet applications. These specifications should be readily available to procurement officials in those agencies.

Section C-10. (Revised) Add—Railroad Grade Crossing Surfaces Containing Recovered Wood and Plastic

Note: EPA previously designated railroad grade crossing surfaces containing recovered content concrete, rubber, and steel (65 FR 3070).

Preference Program for Railroad Grade Crossing Surfaces Containing Recovered Wood and Plastic: EPA recommends that, based on the recovered materials content levels shown in Table C-10a (Revised), procuring agencies revise their procurement programs for railroad grade crossing surfaces to allow the use of recovered wood and plastic railroad grade crossing surfaces.

Table C-10a (Revised).—Recommended Recovered Materials Content Levels for Wood and Plastic Railroad Grade Crossing Surfaces
Surface material | Recovered material | Postconsumer content (%) | Total recovered materials content (%)
Wood | Wood or wood composite | 90-97 | 90-97
Plastic | Plastic or plastic composite | 85-95 | 100
Notes: Railroad grade crossing surfaces made from recovered wood may also contain other recovered materials such as plastics. The percentages of these materials contained in the product would also count toward the recovered materials content level of the item.
Railroad grade crossing surfaces made from recovered plastics may also contain other recovered materials such as auto shredder residue, which contains a mix of materials. The percentages of these materials contained in the product would also count toward the recovered materials content level of the item.

Specifications: EPA has not identified any industry specifications or standards for wood or plastic railroad grade crossing surfaces.

Section C-11. Modular Threshold Ramps Containing Recovered Steel, Aluminum, or Rubber

Preference Program: EPA recommends that, based on the recovered materials content levels shown in Table C-11, procuring agencies establish minimum content standards for use in purchasing modular threshold ramps containing recovered materials.

Table C-11.—Recommended Recovered Materials Content Levels for Modular Threshold Ramps Containing Recovered Steel, Aluminum, and Rubber
Material | Postconsumer content (%) | Total recovered material content (%)
Steel | 16-67 | 25-100
Aluminum |  | 10
Rubber | 100 | 100
Notes: A final designation would not preclude a procuring agency from purchasing threshold ramps made from another material. It simply requires that a procuring agency, when purchasing steel, aluminum, or rubber threshold ramps, purchase these items made with recovered materials when they meet applicable specifications and performance requirements.
The recommended recovered materials content levels for steel in this table reflect the fact that the designated items can be made from steel manufactured in either a Basic Oxygen Furnace (BOF) or an Electric Arc Furnace (EAF). Steel from the BOF process contains 25%-30% total recovered steel, of which, 16% is postconsumer steel. Steel from the EAF process contains a total of 100% recovered steel, of which, 67% is postconsumer steel. In addition, threshold ramps can be made from a combination of BOF and EAF steel which, according to industry sources, would result in a steel with 25%-85% total recovered steel content, of which 16%-67% would be postconsumer steel.

Specifications: Although the federal government is not governed by ADA, the Access Board's ADA standards are more current than the UFAS and are therefore generally used by federal facilities. According to the “Americans with Disabilities Act Accessibility Guidelines for Buildings and Facilities' (28 CFR Part 36), published in the Federal Register, July 26, 1991, ground and floor surfaces along accessible routes and in accessible rooms and spaces including floors, walks, ramps, stairs, and curbramps, must be stable, firm, and slip-resistant. The guidelines do not define what is meant by “stable, firm, and slip-resistant,” but the Access Board recommends static coefficient of friction values of 0.8 for ramps and 0.6 for accessible routes.

Section C-12. Nonpressure Pipe Containing Recovered Steel, Plastic, or Concrete

Preference Program: EPA recommends that, based on the recovered materials content levels shown in Table C-12a, procuring agencies establish minimum content standards for use in purchasing nonpressure pipe containing recovered materials.

Table C-12a.—Recommended Recovered Materials Content Levels for Nonpressure Pipe Containing Recovered Steel, Plastic, and Concrete
Material | Postconsumer content (%) | Total recovered materials content (%)
Steel | 16 67 | 25-30 100
HDPE | 100 | 100
PVC | 5-15 | 25-100
Cement | Refer to cement and concrete recommendations in C-3 of the RMAN.
Notes: A final designation would not preclude a procuring agency from purchasing nonpressure pipe made from other materials. It simply requires that a procuring agency, when purchasing steel, plastic, or concrete nonpressure pipe, purchase the item containing recovered materials when they meet applicable specifications and performance requirements.
The recommended recovered materials content levels for steel in this table reflect the fact that the designated item can be made from steel manufactured in either a Basic Oxygen Furnace (BOF) or an Electric Arc Furnace (EAF). Steel from the BOF process contains 25%-30% total recovered steel, of which, 16% is postconsumer steel. Steel from the EAF process contains a total of 100% recovered steel, of which, 67% is postconsumer steel.

Specifications: EPA recommends that procuring agencies refer to the following tables C-12b, C-12c, C-12d, and C-12e when purchasing nonpressure pipe containing recovered materials. For additional guidelines see the “Background Document for Proposed CPG IV and Draft RMAN IV,” which can be found in the RCRA public docket.

Table C-12b.—ASTM Plastic Pipe Specifications
F1960, Standard Specification for Co-extruded Poly(Vinyl Chloride) (PVC) Non-Pressure Plastic Pipe Having Reprocessed Recycled Content.
F1732, Standard Specification for Poly(Vinyl Chloride) (PVC) Sewer and Drain Pipe Containing Recycled PVC Material.
D1248, Standard Specification for Polyethylene Plastics Molding and Extrusion Materials.
F810, Smooth wall Polyethylene (PE) Pipe for Use in Drainage and Waste Absorption Fields.
F405, Standard Specification for Corrugated Polyethylene (PE) Tubing and Fittings.
F512, Standard Specification for Poly(Vinyl Chloride) (PVC) Conduit and Fittings for Underground Installation.
F667, Standard Specification for Large Diameter Corrugated Polyethylene Tubing and Fittings.
F949, Standard Specification for Poly(Vinyl Chloride (PVC) Corrugated Sewer Pipe With a Smooth Interior and Fittings.
D2665, Standard Specification for Poly(Vinyl Chloride) (PVC) Plastic Drain, Waste, and Vent Pipe and Fittings.
D3034, Standard Specification for Type PSM Poly(Vinyl Chloride) (PVC) Sewer Pipe and Fittings.
D2239, Standard Specifications for Polyethylene (PE) Plastic Pipe (SIDR-PR) Based on Controlled Inside Diameter.
D2447, Standard Specification for Polyethylene (PE) Plastic Pipe Schedules 40 and 80, Based on Controlled Outside Diameters.
D2729-96a, Standard Specification for Poly (Vinyl Chloride) (PVC) Sewer Pipe and Fittings.
D3035, Standard Specification for Polyethylene (PE) Plastic Pipe (DR-PR) Based on Controlled Outside Diameter.
D4976, Standard Specification for Polyethylene Plastic Molding and Extrusion Materials.
D3350, Standard Specification for Polyethylene Plastic Pipe and Fitting Materials.
D4396, Standard Specification for Rigid Poly(Vinyl) (PVC) and Chlorinated Poly (Vinyl Chloride) (CPVC) Compounds for Plastic Pipe and Fittings Used in Nonpressure Applications.
F810, Standard Specification for Smooth wall Polyethylene (PE) Pipe for Use in Drainage and Waste Disposal Absorption Fields.
F405, Standard Specification for Corrugated Polyethylene (PE) Tubing and Fittings.
F1970, Standard Specification for Special Engineered Fittings or Appurtenances for Use in Poly Vinyl (Chloride) (PVC) or Chlorinated Poly(Vinyl Chloride) (CPVC) Systems.
Note: ASTM Committee C13 on Concrete Pipe is responsible for the formulation and review of specifications, test methods and definitions for concrete pipe and develops and reviews practices and guides covering design, installation, testing, economic evaluation, and performance of concrete pipe systems. While the previous ceiling on fly ash content had been set at 25 percent, in 1999, ASTM Committee C13 removed all limitations on fly ash content in pipe.

Table C-12c.—ASTM Concrete Pipe Specifications
C14-99, Standard Specification for Concrete Sewer, Storm Drain, and Culvert Pipe.
C118-99, Standard Specification for Concrete Pipe for Irrigation or Drainage.
C412-99, Standard Specification for Concrete Drain Tile.
C444-95, Standard Specification for Perforated Concrete Pipe.
C505-99a, Standard Specification for Nonreinforced Concrete Irrigation Pipe With Rubber Gasket Joints.
C654-99, Standard Specification for Porous Concrete Pipe.
C76-99, Standard Specification for Reinforced Concrete Culvert, Storm Drain, and Sewer Pipe.
C506-99, Standard Specification for Reinforced Concrete Arch Culvert, Storm Drain, and Sewer Pipe.
C507-99, Standard Specification for Reinforced Concrete Elliptical Culvert, Storm Drain, and Sewer Pipe.
C478-97, Standard Specification for Precast Reinforced Concrete Manhole Sections.

Table C-12d.—ASTM and AASHTO Specifications for Steel Pipe
Material | Description | AASHTO specifications | ASTM specifications
Zinc Coated Sheets and Coils | Steel base metal* with 610 g/m2 (2 oz/ft2) zinc coating | M-218 | A929M
Polymer Coated Sheets and Coils | Polymer coatings applied to sheets* and coils* 9.25 mm (0.010 in.) thickness each side | M-246 | A742M
Fiber Bonded Coated Coils | Steel base metal with zinc coating and fibers pressed into the zinc while molten to form fiber bonded coating |  | A885
Aluminum Coated | Steel base metal* coated with 305 g/m2 (1 oz/ft2) of pure aluminum | M-274 | A929M
Sewer and Drainage Pipe | Corrugated pipe fabricated from any of the above sheets or coils. Pipe is fabricated by corrugating continuous coils into helical “from with lockseam or welded seam, or by” rolling annular corrugated mill sheets and riveting seams: |  |
| Galvanized corrugated steel pipe | M-36 | A760M
| Polymeric pre-coated sewer and drainage pipe | M-245 | A762M
| Fiber bonded impregnated corrugated steel pipe |  | A760M
| Aluminized corrugated steel pipe | M-36 | A760M
| Structural plate pipe | M-167 | A761M
Asphalt Coated Steel Sewer Pipe | Corrugated steel pipe of any of the types shown above with a 1.3 mm (0.0050 in.) high purity asphalt cover | M-190 | A849 A862
Invert Paved Steel Sewer Pipe | Corrugated steel pipe of any one for the types shown above with an asphalt pavement poured in the invert to cover the corrugation by 3.2 mm (1/8 in.) | M-190 | A849 A862
Fully Lined Steel | With an internal asphalt lining centrifugally spun in place | M-190 | A849 A862
| Corrugated steel pipe with a single thickness of smooth sheet fabricated with helical ribs projected outward | M-36 | A760M
| With an internal concrete lining in place | M-36 | A760M
| Corrugated steel pipe with a smooth steel linter integrally formed with the corrugated shell | M-36 | A760M
Cold Applied Bituminous Coatings | Fibrated mastic or coat tar base coatings of various viscosities for field or shop coating of corrugated pipe or structural plate | M-243 | A849
Gaskets and Sealants | Standard O-ring gasket Gasket strips, butyl or neoprene |  | D1056 C361
Notes: * Yield point 0230Mpa (33ksi) min.; tensile strength —310Mpa (45 ksi) min.; Elongation (50 mm/2 in.)—20% min.
AASHTO pipe specifications restrict the use of recycled plastic through the reference to “rework” material. Specifications referenced by those who commented in 1994 are listed in Table C-12e. AASHTO's specifications are updated annually.

Table C-12e.—American Association of State Highway and Transportation Officials Pipe Specifications (1994)
M252-93, Corrugated Polyethylene Drainage Tubing.
M294-93, Corrugated Polyethylene Pipe.
M278, Class PS 46 Polyvinyl Chloride (PVC) Pipe.
Section 18, Standard Specifications for Highway Bridges.

Section C-14. Roofing Materials Containing Recovered Steel, Aluminum, Fiber, Rubber, Plastic or Plastic Composites, or Cement

Preference Program: EPA recommends that, based on the recovered materials content levels shown in Table C-14, procuring agencies establish minimum content standards for use in purchasing or procuring roofing materials or services. EPA's research indicates that wood shakes and shingles as well as asphalt/plastic composite roofing materials can be made from recovered materials, but we were unable to identify recycled-content percentages in these products.

Table C-14.—Recommended Recovered Materials Content Levels for Roofing Materials Containing Steel, Aluminum, Fiber, Rubber, Plastic or Plastic Composites, or Cement
Material | Postconsumer content (%) | Total recovered materials content (%)
Steel | 16 67 | 25—30 100
Aluminum | 20-95 | 20-95
Fiber (felt) | 66-100 | 100
Rubber | 12-100 | 100
Plastic or Plastic/Rubber Composite | 100 | 100
Wood/Plastic Composite |  | 100
Cement | Refer to cement and concrete recommendations in C-3 of the RMAN.
Notes: A final designation would not preclude a procuring agency from purchasing roofing materials manufactured from another material. It simply requires that a procuring agency, when purchasing steel, aluminum, fiber, rubber, plastic, wood, or cement roofing materials, purchase these items made with recovered materials when these items meet applicable specifications and performance requirements.
The recommended recovered materials content levels for steel in this table reflect the fact that the designated item can be made from steel manufactured in either a Basic Oxygen Furnace (BOF) or an Electric Arc Furnace (EAF). Steel from the BOF process contains 25%-30% total recovered steel, of which, 16% is postconsumer steel. Steel from the EAF process contains a total of 100% recovered steel, of which, 67% is postconsumer steel.

Specifications: EPA recommends that procuring agencies refer to the 186 standards for roofing products maintained by ASTM's Committee D08 on Roofing, Waterproofing, and Bituminous Materials. The specifications, however, do not discuss use of recovered materials, nor do they preclude the use of recovered materials.

Part G. Nonpaper Office Products

Section G-9. Office Furniture Containing Recovered Steel, Aluminum, Wood, Agricultural Fiber, and Plastic

Preference Program: EPA recommends that, based on the recovered materials content levels shown in Table G-9, procuring agencies establish minimum content standards for use in purchasing office furniture with recovered materials, including remanufactured or refurbished office furniture.

Table G-9.—Recommended Recovered Materials Content Levels for Office Furniture
Product | Material | Postconsumer content (%) | Total recovered materials content (%)
Furniture structure | Steel | 16 | 25-30
Furniture structure | Aluminum |  | 75-100
Particleboard/Fiberboard component | Wood composite Agricultural fiber | 1-50 | 80-100 100
Fabric | PET | 100 | 100
Plastic furniture component | HDPE | 70-75 | 95
Remanufactured or Refurbished Furniture | Various | 25-75 | 25-75
Notes: A final designation would not preclude a procuring agency from purchasing office furniture manufactured from another material. It simply requires that a procuring agency, when purchasing office furniture made from steel, aluminum, wood, agricultural fiber, or plastic, purchase these items made with recovered materials when these items meet applicable specifications and performance requirements, or procure office furniture that has been remanufactured or refurbished.
The recommended recovered materials content levels for steel in this table reflect the fact that the designated item is generally made from steel manufactured in a Basic Oxygen Furnace (BOF). Steel from the BOF process contains 25%-30% total recovered steel, of which, 16% is postconsumer steel.
Particleboard and fiberboard used in the wood components of office furniture may also contain other recovered cellulosic materials, including, but not limited to, paper, wheat straw, and bagasse. The percentages of these materials contained in the product would also count toward the recovered materials content level of the item.

Specifications: EPA did not identify any standards or specifications that would preclude government agencies from purchasing office furniture with recovered materials content or remanufactured or refurbished office furniture. GSA requires that remanufactured furniture meet the same Underwriters Laboratories, ASTM, and Business and Institutional Furniture Manufacturer's Association standards and fire codes (Boston and California) as new furniture.

Part H. Miscellaneous Products

Section H-8. Bike Racks Containing Recovered Steel or Plastic

Preference Program: EPA recommends that, based on the recovered materials content levels shown in Table H-8, procuring agencies establish minimum content standards for use in purchasing bike racks.

Table H-8.—Recommended Recovered Materials Content Levels for Bike Racks
Material | Postconsumer content (%) | Total recovered materials content (%)
Steel | 16 | 25-30
HDPE | 100 | 100
Notes: A final designation would not preclude a procuring agency from purchasing bike racks manufactured from another material. It simply requires that a procuring agency, when purchasing steel or plastic bike racks, purchase them containing recovered materials when they meet applicable specifications and performance requirements.
The recommended recovered materials content levels for steel in this table reflect the fact that the designated item is generally made from steel manufactured in a Basic Oxygen Furnace (BOF). Steel from the BOF process contains 25%-30% total recovered steel, of which, 16% is postconsumer steel.

Specifications: EPA did not identify any industry standards or specifications that would preclude the use of recovered materials in bike racks.

Section H-9. Blasting Grit Containing Recovered Steel, Coal and Metal Slag, Glass, Plastic, and Walnut Shells

Preference Program: EPA recommends that, based on the recovered materials content levels shown in Table H-9, procuring agencies establish minimum content standards for use in purchasing blasting grit containing recovered materials.

Table H-3.—Recommended Recovered Materials Content Levels for Blasting Grit
Material | Postconsumer content (%) | Total recovered materials content (%)
Steel | 16—67 | 25—100
Coal Slag |  | 100
Copper and Nickel Slag |  | 100
Glass | 100 | 100
Glass/Plastic | 20 | 100
Walnut Shells |  | 100
Notes: A final designation would not preclude a procuring agency from purchasing blasting grit manufactured from another material. It simply requires that a procuring agency, when purchasing blasting grit made from steel, coal and metal slag, glass, plastic, or walnut shells, purchase this item made with recovered materials when it meets applicable specifications and performance requirements.
The recommended recovered materials content levels for steel in this table reflect the fact that the designated item can contain steel manufactured in either a Basic Oxygen Furnace (BOF) or an Electric Arc Furnace (EAF). Steel from the BOF process contains 25%—30% total recovered steel, of which, 16% is postconsumer steel. Steel from the EAF process contains a total of 100% recovered steel, of which, 67% is postconsumer steel. In addition, blasting grit can be made from a combination of BOF and EAF steel which, according to industry sources, would result in a steel with 25%—85% total recovered steel content, of which 16%—67% would be postconsumer steel.

Specifications: EPA did not find any specifications that would preclude the use of recovered materials in blasting grit. EPA recommends that procuring agencies exercise OSHA or other required standard safety practices when using blasting grit, particularly when using blasting grit containing slag materials.

[FR Doc. 01-21568 Filed 8-27-01; 8:45 am]

BILLING CODE 6560-50-P